DEPARTMENT OF THE INTERIOR

Bureau of Land Management

[CO-700-00-1020-XQ-1784]

Southwest Resource Advisory Council Meeting

AGENCY: Bureau of Land Management, Interior.

ACTION: Notice; Southwest Resource Advisory Council Meeting.

SUMMARY: Notice is hereby given that the Southwest Resource Advisory Council (Southwest RAC) will meet in September 2000 in Dolores, Colorado.

DATES: The meeting will be held on Thursday, September 14, 2000.

ADDRESSES: For additional information, contact Roger Alexander, Bureau of Land Management, Southwest Center, 2465 South Townsend Avenue, Montrose, Colorado 81401; phone 970-240-5335; TDD 970-240-5366; e-mail roger_alexander@co.blm.gov.

SUPPLEMENTARY INFORMATION: The September 14, 2000 meeting will be held at the Anasazi Heritage Center, 27501 Highway 184, Dolores, Colorado. The meeting will begin at 9 a.m. and at approximately 4:30 p.m. The agenda will include introduction of new members, and briefings on BLM's wilderness program and the Southwest Colorado Cultural Site Stewardship Program. General public comment is scheduled for 9:15 a.m.

Summary minutes for Council meetings are maintained in the Southwest Center Office and on the World Wide Web at www.co.blm.gov/mdo/mdo_sw_rac.htm and are available for public inspection and reproduction within thirty (30) days following each meeting.

Dated: August 14, 2000.
Roger Alexander,
Public Affairs Specialist.

[FR Doc. 00-21052 Filed 8-17-00; 8:45 am]

BILLING CODE 4310-JB-P